DEPARTMENT OF HEALTH AND HUMAN SERVICES

Office of the Secretary

[Document Identifier: HHS-OS-0955-0005-60D]

Agency Information Collection Activities; Proposed Collection; Public Comment Request

AGENCY: Office of the Secretary, HHS.

ACTION: Notice.

SUMMARY: In compliance with section 3506(c)(2)(A) of the Paperwork Reduction Act of 1995, the Office of the Secretary, HHS announces plans to submit an Information Collection Request (ICR), described below, to the Office of Management and Budget (OMB). The ICR is for extending the use of the approved information collection assigned OMB control number 0955-0005, which expires on July 31, 2014. Prior to submitting that ICR to OMB, OS seeks comments from the public regarding the burden estimate, below, or any other aspect of the ICR.

DATES: Comments on the ICR must be received on or before June 2, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0955-0005-60D for reference.

Information Collection Request Title: “Communications Testing for Comprehensive Communication Campaign for HITECH ACT.

OMB No.: 0955-0005.

Abstract: The Office of the National Coordinator for Health Information Technology (ONC) serves as the Health and Human Services (HHS) Secretary's principal advisor on the development, application, and use of health information technology (health IT). ONC is requesting an approval by OMB on an extension, to a previously approved generic clearance titled Communications Testing for Comprehensive Communication Campaign for HITECH ACT, 0955-0005, for collecting information through a variety of research methods for the purpose of developing and testing communications involving health information technology and health information privacy. ONC responsibilities include promoting the development of a nationwide health IT infrastructure that allows for electronic use and exchange of information and fostering the public understanding of health information technology, including educating the public about health information privacy. In order to fulfill these responsibilities, information from the public at large is necessary to determine what education is needed and what types of communication techniques will be most effective. Due to the rapidly evolving nature of health information technology, an extension of the original generic data collection is being requested to ensure that these education and communication efforts keep pace with technological advancements and the changing health information technology ecosystem.

Need and Proposed Use of the Information: This information will be used to assess the need for communications on specific topics and to assist in the development and modification of communication messages. The data will help in tailoring print, broadcast, and electronic media communications and other materials for them to have powerful and desired impacts on target audiences. The data will not be used for the purposes of making policy or regulatory decisions.

Likely Respondents: Likely respondents include consumers as well as physicians, nurses and other health care providers.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form Name | Number of respondents | Number of responses per respondent | Average burden per response (in hours) | Total burden hours
General Public Focus Group Interviews | 144 | 1 | 1.50 | 216
Screening for General Public Focus Group Interviews | 2,160 | 1 | 10/60 | 360
Web usability testing sessions | 144 | 1 | 1.50 | 216
Screening for Web usability testing | 2,160 | 1 | 10/60 | 360
Self-Administered Surveys | 2,000 | 1 | 15/60 | 500
Screening for Self-Administered Surveys | 8,000 |  | 10/60 | 1,333
Omnibus Surveys | 2,000 | 1 | 10/60 | 333
Consumer testing of notices | 50 | 1 | 1.0 | 50
TOTAL (General Public) | 16,648 |  |  | 3,368
Health Professional Focus Group Interviews | 144 | 1 | 1.50 | 216
Screening for Professional Focus Group Interviews | 2,160 | 1 | 10/60 | 360
Web usability testing sessions | 144 | 1 | 1.50 | 216
Screening for Web usability testing | 2,160 | 1 | 10/60 | 360
Self-Administered Surveys | 2,000 | 1 | 15/60 | 500
Screening for Self-Administered Surveys | 8,000 |  | 10/60 | 1,333
Omnibus Surveys | 2,000 | 1 | 10/60 | 333
Health Professional Individual In-Depth Interviews | 100 | 1 | 45/60 | 75
Screening for Health Professional Individual In-Depth Interviews | 1,000 | 1 | 10/60 | 167
TOTAL (Physician and Other Health Professional) | 17,708 |  |  | 3,560
TOTAL (Overall) | 34,366 |  |  | 6,928

ONC specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy, Information Collection Clearance Officer.

[FR Doc. 2014-07479 Filed 4-2-14; 8:45 am]

BILLING CODE 4150-45-P